DEPARTMENT OF LABOR

Employment and Training Administration

[TA-W-53,527]

Van Dorn Demag Corporation, a Division of Demag Products Group, Strongsville, OH; Notice of Revised Determination on Reconsideration Regarding Eligibility To Apply for Worker Adjustment Assistance and Alternative Trade Adjustment Assistance

By letter dated January 21, 2004, a petitioner requested administrative reconsideration regarding Alternative Trade Adjustment Assistance (ATAA). The certification was signed on December 5, 2003. The notice was published in the Federal Register on January 16, 2004 (69 FR 2623).

The initial investigation determined that the skills of the subject worker group are easily transferable to other positions in the local area.

The petitioner alleges in the request for reconsideration that the skills of the workers at the subject firm are not easily transferable.

Additional investigation has determined that the workers possess skills that are not easily transferable. A significant number or proportion of the worker group are age fifty years or over. Competitive conditions within the industry are adverse.

Conclusion

After careful review of the additional facts obtained on reconsideration, I conclude that the requirements of Section 246 of the Trade Act of 1974, as amended, have been met for workers at the subject firm.

In accordance with the provisions of the Act, I make the following certification:

All workers of at Van Dorn Demag Corporation, A Division of Demag Products Group, Strongsville, Ohio, who became totally or partially separated from employment on or after November 12, 2002 through December 5, 2005, are eligible to apply for adjustment assistance under Section 223 of the Trade Act of 1974, and are also eligible to apply for alternative trade adjustment assistance under Section 246 of the Trade Act of 1974.

Signed in Washington, DC this 5th day of February 2004.
Elliott S. Kushner,
Certifying Officer, Division of Trade Adjustment Assistance.

[FR Doc. 04-3916 Filed 2-23-04; 8:45 am]

BILLING CODE 4510-30-P